SECURITIES AND EXCHANGE COMMISSION

[Notice of Exempt; OMB Control No. 3235-0452; SEC File No. 270-396; Preliminary Roll-Up Communication]

Submission for OMB Review; Comment Request

Upon Written Request; Copies Available From: Securities and Exchange Commission, Office of Investor Education and Advocacy, Washington, DC 20549-0213.

Extension: Notice of Exempt, OMB Control No. 3235-0452, SEC File No. 270-396, Preliminary Roll-Up Communication.

Notice is hereby given that, pursuant to the Paperwork Reduction Act of 1995 (44 U.S.C. 3501 et seq.) the Securities and Exchange Commission (“Commission”) has submitted to the Office of Management and Budget this request for extension of the previously approved collection of information discussed below.

A Notice of Exempt Preliminary Roll-Up Communication (“Notice”) (17 CFR 240.14a-104) provides information regarding ownership interests and any potential conflicts of interest to be included in statements submitted by or on behalf of a person pursuant Exchange Act Rule (17 CFR 240.14a-2(b)(4)) and Exchange Act Rule (17 CFR 240.14a-6(n)). The Notice is filed on occasion and the information required is mandatory. All information is provided to the public upon request. The Notice takes approximately 0.25 hours per response and is filed by 4 respondents for a total of one annual burden hour.

An agency may not conduct or sponsor, and a person is not required to respond to, a collection of information unless it displays a currently valid control number.

Written comments regarding the above information should be directed to the following persons: (i) Desk Officer for the Securities and Exchange Commission, Office of Information and Regulatory Affairs, Office of Management and Budget, Room 10102, New Executive Office Building, Washington, DC 20503 or send an e-mail to: Shagufta_Ahmed@omb.eop.gov; and (ii) Charles Boucher, Director/CIO, Securities and Exchange Commission, C/O Shirley Martinson, 6432 General Green Way, Alexandria, VA 22312; or send an e-mail to: PRA_Mailbox@sec.gov. Comments must be submitted to OMB within 30 days of this notice.

Dated: May 19, 2010.
Florence E. Harmon,
Deputy Secretary.

[FR Doc. 2010-12554 Filed 5-25-10; 8:45 am]

BILLING CODE 8010-01-P